DEPARTMENT OF ENERGY

Federal Energy Regulatory Commission

Combined Notice of Filings #1

Take notice that the Commission received the following electric rate filings:

Docket Numbers: ER19-1634-003; ER14-152-012; ER13-1141-006; ER13-1142-006; ER13-1143-009; ER13-1144-009; ER20-2452-004; ER20-2453-005; ER20-844-003; ER10-2196-008; ER20-528-003; ER17-1849-007; ER19-1009-002; ER16-918-005; ER10-2740-016; ER19-1633-003; ER15-1657-013; ER19-1638-003.

Applicants: Tiverton Power LLC, SEPG Energy Marketing Services, LLC, Rumford Power LLC, Rocky Road Power, LLC, Rhode Island State Energy Center, LP, Revere Power, LLC, Nautilus Power, LLC, Lincoln Power, L.L.C., Lakewood Cogeneration Limited Partnership, Hamilton Projects Acquiror, LLC, Hamilton Patriot LLC, Hamilton Liberty LLC, Essential Power Rock Springs, LLC, Essential Power OPP, LLC, Essential Power Newington, LLC, Essential Power Massachusetts, LLC, Elgin Energy Center, LLC, Bridgeport Energy LLC.

Description: Supplement to December 30, 2022, Triennial Market Power Analysis for Northeast Region of Lakewood Cogeneration Limited Partnership, et al.

Filed Date: 5/22/23.

Accession Number: 20230522-5120.

Comment Date: 5 p.m. ET 6/12/23.

Docket Numbers: ER22-1166-001.

Applicants: Duke Energy Florida, LLC, Duke Energy Progress, LLC, Duke Energy Carolinas, LLC.

Description: Compliance filing: Duke Energy Florida, LLC submits tariff filing per 35: Updated 676 Compliance Filing Docket No. ER22-1166-000 to be effective 2/23/2023.

Filed Date: 5/23/23.

Accession Number: 20230523-5138.

Comment Date: 5 p.m. ET 6/13/23.

Docket Numbers: ER23-1495-001.

Applicants: SEP II, LLC.

Description: Tariff Amendment: SEP II Amendment to a Pending Filing to be effective 3/30/2023.

Filed Date: 5/22/23.

Accession Number: 20230522-5165.

Comment Date: 5 p.m. ET 6/12/23.

Docket Numbers: ER23-1932-000.

Applicants: Tri-State Generation and Transmission Association, Inc.

Description: § 205(d) Rate Filing: Initial Filing of Rate Schedule FERC No. 355 to be effective 4/21/2023.

Filed Date: 5/22/23.

Accession Number: 20230522-5166.

Comment Date: 5 p.m. ET 6/12/23.

Docket Numbers: ER23-1933-000.

Applicants: Tri-State Generation and Transmission Association, Inc.

Description: § 205(d) Rate Filing: Amendment to Service Agreement FERC No. 804 to be effective 4/19/2023.

Filed Date: 5/22/23.

Accession Number: 20230522-5174.

Comment Date: 5 p.m. ET 6/12/23.

Docket Numbers: ER23-1934-000.

Applicants: Idaho Power Company.

Description: § 205(d) Rate Filing: SA 467—IPC-PAC Kinport Construction Agreement to be effective 4/14/2023.

Filed Date: 5/23/23.

Accession Number: 20230523-5000.

Comment Date: 5 p.m. ET 6/13/23.

Docket Numbers: ER23-1934-000.

Applicants: Idaho Power Company.

Description: Filing Withdrawal: Withdrawal of SA 467 to be effective N/A.

Filed Date: 5/23/23.

Accession Number: 20230523-5190.

Comment Date: 5 p.m. ET 6/13/23.

Docket Numbers: ER23-1935-000.

Applicants: Idaho Power Company.

Description: § 205(d) Rate Filing: SA #468—IPC-PAC MidPoint Construction Agreement to be effective 4/14/2023.

Filed Date: 5/23/23.

Accession Number: 20230523-5001.

Comment Date: 5 p.m. ET 6/13/23.

Docket Numbers: ER23-1936-000.

Applicants: Elektron Power LLC.

Description: Baseline eTariff Filing: Elektron Power LLC MBR Application to be effective 5/23/2023.

Filed Date: 5/23/23.

Accession Number: 20230523-5044.

Comment Date: 5 p.m. ET 6/13/23.

Docket Numbers: ER23-1937-000.

Applicants: Arizona Public Service Company.

Description: § 205(d) Rate Filing: Service Agreement No. 402, Amendment No. 1 to be effective 7/23/2023.

Filed Date: 5/23/23.

Accession Number: 20230523-5087.

Comment Date: 5 p.m. ET 6/13/23.

Docket Numbers: ER23-1938-000.

Applicants: Northern States Power Company, a Minnesota corporation.

Description: § 205(d) Rate Filing: 2023-05-23 GRE SISA Laketown 738-NSP to be effective 5/24/2023.

Filed Date: 5/23/23.

Accession Number: 20230523-5096.

Comment Date: 5 p.m. ET 6/13/23.

Docket Numbers: ER23-1939-000.

Applicants: Pike Solar LLC.

Description: Baseline eTariff Filing: Pike Solar MBR to be effective 7/20/2023.

Filed Date: 5/23/23.

Accession Number: 20230523-5102.

Comment Date: 5 p.m. ET 6/13/23.

Docket Numbers: ER23-1940-000.

Applicants: Midcontinent Independent System Operator, Inc., Great River Energy.

Description: Compliance filing: Midcontinent Independent System Operator, Inc. submits tariff filing per 35: 2023-05-23_GRE Schedule 50 Cost Recovery to be effective N/A.

Filed Date: 5/23/23.

Accession Number: 20230523-5103.

Comment Date: 5 p.m. ET 6/13/23.

Docket Numbers: ER23-1941-000.

Applicants: Carson Hybrid Energy Storage LLC.

Description: Tariff Amendment: Notice of Cancellation to be effective 5/24/2023.

Filed Date: 5/23/23.

Accession Number: 20230523-5183.

Comment Date: 5 p.m. ET 6/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2023.
Debbie-Anne A. Reese,
Deputy Secretary.

[FR Doc. 2023-11415 Filed 5-26-23; 8:45 am]

BILLING CODE 6717-01-P